DEPARTMENT OF HEALTH AND HUMAN SERVICES

Centers for Medicare & Medicaid Services

[CMS-9034-N]

Medicare and Medicaid Programs; Quarterly Listing of Program Issuances—October Through December 2005

AGENCY: Centers for Medicare & Medicaid Services (CMS), HHS.

ACTION: Notice.

SUMMARY: This notice lists CMS manual instructions, substantive and interpretive regulations, and other Federal Register notices that were published from October 2005 through December 2005, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations. Finally, this notice includes a list of Medicare-approved carotid stent facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities may be addressed to Sarah J. McClain, Office of Clinical Standards and Quality, Centers for Medicare & Medicaid Services, C1-09-06, 7500 Security Boulevard, Baltimore, MD 21244-1850, or you can call (410) 786-2994.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Stem Cell Transplantation,” use CMS-Pub. 100-03, Transmittal No. 45.

(Catalog of Federal Domestic Assistance Program No. 93.773, Medicare—Hospital Insurance, Program No. 93.774, Medicare—Supplementary Medical Insurance Program, and Program No. 93.714, Medical Assistance Program.)

Dated: March 20, 2006.
Jacquelyn Y. White,
Director, Office of Strategic Operations and Regulatory Affairs.

Addendum I

This addendum lists the publication dates of the most recent quarterly listings of program issuances.

September 26, 2003 (68 FR 55618)

December 24, 2003 (68 FR 74590)

March 26, 2004 (69 FR 15837)

June 25, 2004 (69 FR 35634)

September 24, 2004 (69 FR 57312)

December 30, 2004 (69 FR 78428)

February 25, 2005 (70 FR 9338)

June 24, 2005 (70 FR 36620)

September 23, 2005 (70 FR 55863)

December 23, 2005 (70 FR 76290)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[October through December 2005]
Transmittal No. | Manual/Subject/Publication No.
Medicare General Information
(CMS Pub. 100-01)
30 | Initiate STC testing of the MCS for RRB and HIGLAS Shared System Testing Requirements for Maintainers, Beta Testers, and Contractors.
31 | Update to Medicare Deductible, Coinsurance and Premium Rates for 2006 Basis for Determining the Part A Coinsurance Amounts Part B Annual Deductible.
32 | Scheduled Release for January 2006 Software Programs and Pricing/Coding Files.
33 | Change Management Process—Electronic Change Information Management Portal (eChimp).
Medicare Benefit Policy
(CMS Pub. 100-02)
39 | Auditory Osteointegrated and Auditory Brainstem Devices Hearing Aids and Auditory Implants.
40 | Skilled Nursing Facility Prospective Payment System.
| Certification and Recertification by Physicians for Extended Care Services.
| Who May Sign the Certificate or Recertification for Extended Care Services Rural Health Center/Federally Qualified Health Center for Hospital/Skilled Nursing Facility Outpatients or Inpatients.
41 | Telehealth Originating Site Facility Fee Payment Amount Update.
42 | January 2006 Update of the Hospital Outpatient Prospective Payment System Manual Instruction: Changes to Coding and Payment for Observation.
43 | List of Medicare Telehealth Services.
| Payment-Physician/Practitioner at a Distant Site.
Medicare National Coverage Determinations
(CMS Pub. 100-03)
43 | This Transmittal is rescinded and replaced by Transmittal 45.
44 | Lung Volume Reduction Surgery.
45 | Stem Cell Transplantation.
Medicare Claims Processing
(CMS Pub. 100-04)
695 | General Appeals Process in Initial Determinations (Implementation Dates for Fiscal Intermediary Initial Determinations Issued on or After May 1, 2005 and Carrier Initial Determinations Issued on or After January 1, 2006).
| CMS Decisions Subject to the Administrative Appeals Process.
| Who May Appeal.
| Provider or Supplier Appeals When the Beneficiary Is Deceased.
| Steps in the Appeals Process: Overview.
| Where to Appeal.
| Time Limits for Filing Appeals and Good Cause for Extension of the Time Limit for Filing Appeals.
| Good Cause.
| General Procedure to Establish Good Cause.
| Conditions and Examples That May Establish Good Cause for Late Filing by Beneficiaries.
| Conditions and Examples That May Establish Good Cause for Late Filing by Providers, Physicians, or Other Suppliers.
| Good Cause Not Found for Beneficiary, or for Provider, Physician, or Other Supplier.
| Amount in Controversy Requirements.
| Parties to an Appeal.
696 | 2006 Annual Update of Healthcare Common Procedure Coding System Codes for Skilled Nursing Facility Consolidated Billing for the Common Working File, Medicare Carriers and Fiscal Intermediaries.
| Skilled Nursing Facility Consolidated Billing Annual Update Process for Fiscal Intermediaries.
697 | Appeals of Claims Decisions: Redeterminations and Reconsiderations (implementation date May 1, 2005).
| Time Limit for Filing a Request for Redetermination.
| Reporting Redeterminations on the Appeals Report.
698 | The Supplemental Security Income Medicare Beneficiary Data for Fiscal Year 2006 for the Inpatient Rehabilitation Facility Prospective Payment System.
| Low Income Percentage Adjustment: The Supplemental Security Income Medicare Beneficiary Data for Inpatient Rehabilitation Facilities Paid Under the Prospective Payment System.
699 | This Transmittal is rescinded and replaced by Transmittal 761.
700 | Revision to Chapter 31—Attestation.
| Eligibility Extranet Workflow.
701 | New Diagnosis Code Requirements for Method II Home Dialysis Claims Supplier Documentation Required.
702 | Manualization for Physician/Practitioner/Supplier Participation Agreement and Assignment Carrier Claims and Carrier Rules for Limiting Charge.
| Physician/Practitioner/Supplier Participation Agreement and Assignment—Carrier Claims.
| Mandatory Assignment on Carrier Claims.
| Filing Claims to a Carrier for Nonassigned Services.
| Carrier Annual Participation Program.
| Carrier Participation and Billing Limitations.
703 | This Transmittal is rescinded and replaced by Transmittal 707.
704 | Discontinuation of Biannual Recertification List for Certified Registered Nurse.
| Anesthetist Services.
| Issuance of Unique Physician Identification Numbers.
| Annual Review of Certified Registered Nurse Anesthetist Certifications.
705 | Modification to Reporting of Diagnosis Codes for Screening Mammography Claims.
| Healthcare Common Procedure Coding System and Diagnosis Codes for Mammography Services.
706 | Payment Methodology for Rehabilitation Services in Indian Health Service/Tribally Owned and/or Operated Hospitals and Hospital-Based Facilities.
| Services Paid Under the Physician Fee Schedule.
707 | Inpatient Prospective Payment System Outlier Reconciliation Outliers.
| Cost to Charge Ratios.
| Statewide Average Cost to Charge Ratios.
| Threshold and Marginal Cost.
| Transfers.
| Reconciliation.
| Time Value of Money
| Procedure for Fiscal Intermediaries to Perform and Record Outlier.
| Reconciliation Adjustments.
| Specific Outlier Payments for Burn Cases.
| Quality Improvement Organization Reviews and Adjustments.
| Return Codes for Pricer.
708 | This Transmittal is rescinded and replaced by Transmittal 722.
709 | This Transmittal is rescinded and replaced by Transmittal 720.
710 | Issued to a specific audience, not posted to Internet/Intranet due to sensitivity of Instruction.
711 | This Transmittal is rescinded and replaced by Transmittal 763.
712 | Correction to Change Request 3949, Section 50.3.3 in IOM to Add 23x Type of Bill.
| Billing and Claims Processing Requirements Related to Expedited Determinations.
713 | This Transmittal is rescinded and replaced by Transmittal 748.
714 | Payment Window Edit Corrections Within the Common Working File.
| Outpatient Services Treated As Inpatient Services.
715 | New Designated Competitive Acquisition Program Carrier Contractor ID Numbers.
716 | Modifiers for Transportation of Portable X-rays (R0075) When Billed by Skilled Nursing Facilities.
| Transportation of Equipment Billed by a Skilled Nursing Facility to a Fiscal Intermediary.
717 | Disabling the Revenue/Healthcare Common Procedure Coding System Consistency.
| Edit Codes in the Fiscal Intermediary Shared System.
| Fiscal Intermediary Consistency Edits.
718 | Source of Admission Code ‘D’.
719 | This Transmittal is rescinded and replaced by Transmittal 736.
720 | Issued to a specific audience, not posted to Internet/Intranet due to sensitivity of Instruction.
721 | Use of Value Codes 48 and 49 on End-Stage Renal Disease Bills.
| Required Information for In-Facility Claims Paid Under the Composite Rate.
| Epoetin Alfa Facility Billing Requirements Using UB-92/Form CMS-1450.
| Darbeopoetin Alfa Facility Billing Requirements Using UB-92/Form CMS-1450.
722 | 2006 Annual Update for the Health Professional Shortage Area Bonus Payments.
723 | Issued to a specific audience, not posted to Internet/Intranet due to Confidentiality of Instruction.
724 | Appeals of Claims Decisions: Redeterminations and Reconsiderations (Implementation Dates for Fiscal Intermediary Initial Determinations Issued on or After May 1, 2005 and Carrier Initial Determinations Issued on or After January 1, 2006).
| Filing a Request for Redetermination.
| Appeal Rights for Dismissals.
| Dismissal Letters.
| Model Dismissal Notices.
| Reconsideration—The Second Level of Appeal.
| Filing a Request for a Reconsideration.
| Time Limit for Filing a Request for a Reconsideration.
| Contractor Responsibilities—General.
| Qualified Independent Contractor Case File Development.
| Qualified Independent Contractor Case File Preparation.
| Forwarding Qualified Independent Contractor Case Files.
| Qualified Independent Contractor Jurisdictions.
| Tracking Cases.
| Effectuation of Reconsiderations.
725 | This Transmittal is rescinded and replaced by Transmittal 737.
726 | Smoking and Tobacco-Use Cessation Counseling Services: Common Working File Inquiry for Providers.
| Common Working File Inquiry.
727 | Annual Type of Service.
728 | Installation of the January 2006 Inpatient Prospective Payment System Pricer and Hospice Pricer.
729 | Revised October 2005 Quarterly Average Sales Price Medicare Part B Drug Pricing File, Effective October 1, 2005.
730 | Calendar Year 2006 Participation Enrollment and Medicare Participating Physicians and Suppliers Directory Procedures.
731 | Payment for Office or Other Outpatient Evaluation and Management Visits (Codes 99201-99215).
732 | Issued to a specific audience, not posted to Internet/Intranet due to Confidentiality of Instruction.
733 | Repeat Tests for Automated Multi-Channel Chemistries for End-Stage Renal Disease Beneficiaries.
734 | Redefined Type of Bill, 14x, for Non-Patient Laboratory Specimens.
| Maryland Waiver Hospitals.
| Clinical Diagnostic Laboratory Tests Furnished by Critical Access Hospitals.
| Hospital Laboratory Services Furnished to Nonhospital Patients.
735 | Processing All Diagnosis Codes Reported on Claims Submitted to Carriers.
| Items 14-33-Provider of Service or Supplier Information.
736 | Clarification and Update to Hospital Billing Instructions and Payment for Epoetin Alfa and Darbepoetin Alfa for Beneficiaries With End-Stage Renal Disease.
| Epoetin Alfa for End-Stage Renal Disease Patients.
| Payment Amount for Epoetin Alfa.
| Payment for Epoetin Alfa in Other Settings.
| Epoetin Alfa Provided in Hospital Outpatient Departments.
| Payment for Darbepoetin Alfa in Other Settings.
| Payment for Darbepoetin Alfa in the Hospital Outpatient Department.
| Hospitals Billing for Epoetin Alfa for Non-End-Stage Renal Disease Patients.
| Hospitals Billing for Darbepoetin Alfa for Non-End-Stage Renal Disease Patients.
737 | New ICD-9-CM Codes for Beneficiaries With Chronic Kidney Disease and New Healthcare Common Procedure Coding System for Reporting Epoetin Alfa and Darbepoetin Alfa.
| Required Information for In-Facility Claims Under the Composite Rate.
738 | Calendar Year 2005 Payment for Medicare Part B Radiopharmaceuticals Not Paid on a Cost or Prospective Payment Basis.
739 | Erroneous Guidance—Basis to Waive Penalty.
| Overview.
| Erroneous Program Guidance: Basis to Waive Penalty.
| Policy.
| Basic Conditions That Must Be Met To Waive Penalty.
| Guidance Was Erroneous.
| Guidance Was Issued by the Secretary or Contractor.
| Contractor Acted Within Scope of Authority.
| Guidance Was in Writing.
| Guidance Related to Item, Service, or Claim.
| Guidance Was Issued Timely.
| Provider Accurately Presented Circumstances in Writing.
| Alternative Basis for Satisfying the “Presentation” Condition.
| Provider Followed Guidance.
| Provider's Reliance Was Reasonable.
| Penalty Considered.
| General Limitations on Scope.
| Notice of Penalty Waiver Policy.
| Request for a Penalty Waiver Determination.
| Jurisdiction.
| Jurisdiction Regarding Error.
| Jurisdiction to Complete the Penalty Waiver Determination.
| Determining Whether the Guidance Was Erroneous.
| Completing the Penalty Waiver Determination.
| Timeliness of Request.
| Ripeness.
| Sufficient Information.
| Mootness.
| Required Conditions Other Than Error.
| Completing the Determination.
| Notice of the Penalty Waiver Determination.
| Reconsideration of the Penalty Waiver Determination.
| Recordkeeping.
| Reporting.
| Corrective Action.
| Effective Date.
740 | Change to the Common Working File Skilled Nursing Facility Consolidated.
| Billing Edits for Evaluation and Management Services Billed to Fiscal.
| Intermediaries by Hospitals.
| Hospital's “Facility Charge” in Connection with Clinic Services of a Physician.
741 | New Condition Codes 49 and 50.
742 | Quarterly Update to Correct Coding Initiative Edits, V12.0, Effective January 1, 2006.
743 | Remittance Advice Remark Code and Claim Adjustment Reason Code Update.
744 | File Descriptions and Instructions for Retrieving the 2006 Fee Schedules and Healthcare Common Procedure Coding System through CMS” Mainframe Telecommunications System.
| Recurring Update Notification Containing New Pricing File Names and Retrieval Dates for 2006.
745 | Elimination of the Durable Medical Equipment Regional Carrier Information Form.
| Billing Drugs Electronically “ National Council Prescription Drug Program.
| Certificate of Medical Necessity.
746 | January 2006 Quarterly Average Sales Price Medicare Part B Drug Pricing File, Effective January 1, 2006, and Revisions to January 2005, April 2005, July 2005, and October 2005 Quarterly Average Sales Price Medicare Part B Drug Pricing Files.
747 | Issued to a specific audience, not posted to Internet/Intranet due to Confidentiality of Instruction.
748 | New G Code for Power Mobility Devices.
| Power Mobility Devices Code G0372.
749 | Reasonable Charge Update for 2006 for Splints, Casts, Dialysis Supplies, Dialysis Equipment, and Certain Intraocular Lenses.
750 | 2006 Annual Update for Clinical Laboratory Fee Schedule and Laboratory Services Subject to Reasonable Charge Payment.
751 | National Monitoring Policy for EPO and Aranesp for End-Stage Renal Disease.
| Patients Treated in Renal Dialysis Facilities.
| Chapter 8, Section 60.4, Epoetin Alfa.
| Chapter 8, section 60.7, Darbepoetin Alfa for End-Stage Renal Disease Patients.
752 | Eliminate the Use of Surrogate Unique Physicians Identification Numbers (OTH000) on Medicare Claims.
753 | Update of Contact Information for the Do Not Forward Reports.
| Reporting Requirements—Carriers.
754 | Supplying Fee and Inhalation Drug Dispensing Fee Revisions and Clarifications.
| Pharmacy Supplying Fee and Inhalation Drug Dispensing Fee.
755 | Common Working File Updates for Carrying National Provider Identifier.
756 | Issued to a specific audience, not posted to Internet/Intranet due to Sensitivity of Instruction.
757 | Resubmission of Inpatient Psychiatric Facility Prospective Payment System.
| Claims with Chronic Renal Failure Comorbid Condition.
758 | Changes to the Laboratory National Coverage Determination Edit Software for January 2006.
759 | Therapy Caps to be Effective January 1, 2006.
| The Financial Limitation.
| Discipline Specific Outpatient Rehabilitation Modifiers—All Claims.
760 | Instructions for Downloading the Medicare Zip Code File.
761 | This Transmittal is rescinded and replaced by Transmittal 777.
762 | Ambulance Inflation Factor for CY 2006.
763 | Update to Repetitive Billing—Manualization.
| Frequency of Billing to Fiscal Intermediaries for Outpatient Services Hospital and Community Mental Health Center Reporting Requirements for Services Performed on the Same Day.
764 | Update to the Prospective Payment System for Home Health Agencies for Calendar Year 2006.
765 | Instructions for Downloading the Medicare Zip Code File.
766 | This Transmittal is rescinded and replaced by Transmittal 776.
767 | Skilled Nursing Facility Prospective Payment System Revisions to IOM 100-4—Manualization.
| Physician's Services and Other Professional Services Excluded From Part A.
| Prospective Payment System Payment and the Consolidated Billing Requirement.
| Billing Skilled Nursing Facility Prospective Payment System Services.
| Billing Procedures for a Composite Skilled Nursing Facility or a Change in Provider Number.
| Billing for Services After Termination of Provider Agreement, or After Payment is Denied for New Admission.
| General Rules.
| Billing for Covered Services.
| Part B Billing.
768 | Lung Volume Reduction Surgery.
769 | Surrogate Unique Provider Identification Numbers Reported on Independent Diagnostic Testing Facility Claims.
770 | Fee Schedule Update for 2006 for Durable Medical Equipment, Prosthetics, Orthotics, and Supplies.
771 | Revisions to Pub. 100-04, Medicare Claims Processing Manual in Preparation for the National Provider Identifier.
| Fiscal Intermediary Consistency Edits.
| Identifying Institutional Providers.
| Payment Under Prospective Payment System Diagnosis-Related Groups.
| Payment to Hospitals and Units Excluded From Inpatient Prospective Payment System for Direct Graduate Medical Education and Nursing and Allied Health.
| Education for Medicare Advantage Enrollees.
| Requirements for Critical Access Hospital Services, Critical Access Hospital.
| Skilled Nursing Care Services and Distinct Part Units.
| Payment for Post-Hospital Skilled Nursing Facility Care Furnished by a Critical Access Hospital.
| Swing-Bed Services.
| Outlier Payments: Cost-to-Charge Ratios.
| Affected Medicare Providers.
| Billing Requirements Under Long Term Care Hospital Prospective Payment System.
| Coinsurance Election.
| Maryland Waiver Hospitals.
| Zip Code Files.
| Special Partial Hospitalization Billing Requirements for Hospitals, Community Mental Health Centers, and Critical Access Hospitals.
| Bill Review for Partial Hospitalization Services Provided in Community Mental Health Centers.
| Part B Outpatient Rehabilitation and Comprehensive Outpatient Rehabilitation Facility Services—General.
| Dialysis Provider Number Series.
| Shared Systems Changes for Medicare Part B Drugs for End-Stage Renal Disease Independent Dialysis Facilities.
| Federally Qualified Health Centers.
| Request for Anticipated Payment.
| Home Health Prospective Payment System Claims.
| Completing the Uniform (Institutional Provider) Bill (Form CMS-1450) for Hospice Election.
| Care Plan Oversight.
772 | Fiscal Intermediary Shared System Edit Updates for Epoetin Alfa and Darbepoetin Alfa Healthcare Common Procedure Coding System Changes Effective January 1, 2006.
773 | Announcement of the Medicare Federally Qualified Health Center Supplemental Payment.
| Billing for Supplemental Payments for Federally Qualified Health Centers Under Contract With Medicare Advantage Plans.
774 | Implementation of Changes in End-Stage Renal Disease Payment for Calendar Year 2006.
| Required Information for In-Facility Claims Paid Under the Composite Rate.
775 | Home Care and Domiciliary Care Visits (Codes 99324-99350).
776 | Stem Cell Transplantation.
777 | Competitive Acquisition Program for Part B Drugs.
778 | Issued to a specific audience, not posted to Internet/Intranet due to Confidentiality of Instruction.
779 | New Waived Tests.
780 | Common Working File Database Extract into Next Generation Desktop Data Mart.
781 | Revised Manual Instructions for Processing End-Stage Renal Disease Exceptions Under the Composite Rate Reimbursement System.
| General Instructions for Processing Requests Under the Composite Rate Reimbursement System.
| Criteria for Approval of End-Stage Renal Disease Exception Requests.
| Procedures for Requesting Exceptions to End-Stage Renal Disease Payment Rates.
| Period of Approval: Payment Exception Request.
| Criteria for Re-filing a Denied Exception Request.
| Responsibility of Intermediaries.
| Payment Exception: Pediatric Patient Mix.
| Payment Exception: Self Dialysis Training Costs in Pediatric Facilities.
782 | This Transmittal is rescinded and replaced by Transmittal 788.
783 | January 2006 Non-Outpatient Prospective Payment System Outpatient Code Editor Specifications Version 21.1.
784 | January 2006 Outpatient Prospective Payment System Code Editor Specifications Version 7.0.
785 | January 2006 Update of the Hospital Outpatient Prospective Payment System.
| Manual Instruction: Changes to Coding and Payment for Drug Administration—Manulization.
| Coding and Payment for Drug Administration.
| Administration of Drugs via Implantable or Portable Pumps.
| Chemotherapy Drug Administration.
| Non-Chemotherapy Drug Administration.
786 | January 2006 Update of the Hospital Outpatient Prospective Payment System: Summary of Payment Policy Changes, Outpatient Prospective Payment System Pricer Logic Changes, and Instructions for Updating the Outpatient Provider Specific File.
787 | January 2006 Update of the Hospital Outpatient Prospective Payment System.
| Manual Instruction: Changes to Coding and Payments for Observation.
| Observation Services Overview.
| General Billing Requirements for Observation Services.
| Revenue Code Reporting.
| Reporting Hours of Observation.
| Billing and Payment for Observation Services Furnished Prior to January 1, 2006.
| Billing and Payment for Packaged Observation Services Furnished Between August 1, 2000 and December 31, 2005.
| Billing and Payment for Separately Payable Observation Services Furnished Between April 1, 2002 and December 31, 2005.
| Billing and Payment for Direct Admission to Observation Services Furnished Between January 1, 2003 and December 31, 2005.
| Billing and Payment for Observation Services Furnished On or After January 1, 2006.
| Billing and Payment for All Hospital Observation Services Furnished on or After January 1, 2006.
| Separate and Package Payment for Direct Admission to Observation.
| Separate and Package Payments for Observation.
| Services Not Covered as Observation Services.
788 | Consultation Services (Codes 99241-99255).
789 | Ambulance Fee Schedule—Medical Conditions List: Manualization.
790 | List of Medicare Telehealth Services.
| Payment Methodology for Physician/Practitioner at the Distant Site.
| Originating Site Facility Fee Payment Methodology.
| Submission of Telehealth Claims for Distant Site Practitioners.
| Contractor Editing of Telehealth Claims.
791 | This Transmittal is rescinded and replaced by Transmittal 793.
792 | Nursing Facility Services (Codes 99304-99318).
793 | Revision to Chapter 31—Addition of Hospice Data HIPAA 270/271 Eligibility.
| Eligibility Extranet Workflow.
794 | Announcement of Medicare Supplemental Payments to Federally Qualified Health Centers Under Contract with Medicare Advantage Plans.
| Billing for Supplemental Payments for Federally Qualified Health Centers Under Contract with Medicare Advantage Plans.
795 | Redefined Type of Bill 14X for Non-Patient Laboratory Specimens—Change.
| Request 3835 Manualization.
| Type of Bill.
| Packaging.
| General Rules for Reporting Outpatient Hospital Services.
| Bill Types Subject to Outpatient Prospective Payment System.
| Standard Method—Cost-Based Facility Services, With Billing of Carrier for Professional Services.
| Optional Method for Outpatient Services: Cost-Based Facility Services Plus 115.
| Percentage Fee Schedule Payment for Professional Services.
| Certified Registered Nurse Anesthetist Services (Certified Registered Nurse Anesthetist Pass-Through Exemption of 115 Percent Fee Schedule Payments for Certified Registered Nurse Anesthetist Services).
| Optional Method for Outpatient Services: Cost-Based Facility Services Plus 115.
| Percent Fee Schedule Payment for Professional Services.
| Hospital and Skilled Nursing Facility Patients.
| Special Billing Instructions for Rural Health Centers and Federally Qualified Health Centers.
| Payment Requirements.
| Payment Methodology and Healthcare Common Procedure Coding System Coding.
| General Explanation of Payment.
| Method of Payment for Clinical Laboratory Tests—Place of Service Variation.
| Hospital Billing Under Part B.
| Critical Access Hospital Outpatient Laboratory Service.
| Computer-Aided Detection Add-On Codes.
| Payment Method for Rural Health Centers and Federally Qualified Health Centers.
| Healthcare Common Procedure Coding System Codes for Billing.
| Type of Bill and Revenue Codes for Form CMS-1450.
| Revenue Code and Health Common Procedure Coding System Codes for Billing.
| Payment Method—Fiscal Intermediaries and Carriers.
| Healthcare Common Procedure Coding System, Revenue, and Type of Service Codes.
| Ambulatory Blood Pressure Monitoring Billing Requirements.
| Fiscal Intermediary Billing Requirements.
| Bill Types.
796 | Announcement of Medicare Rural Health Clinics and Federally Qualified Health Centers Payment Rate.
797 | Full Replacement of CR 4095, Diagnosis Code Requirements for Method II.
| Home Dialysis Claims CR 4095 Is Rescinded.
| Supplier Documentation Required.
798 | Emergency Update to the 2006 Medicare Physician Fee Schedule Database.
799 | Reminder Notice of the Implementation of Ambulance Transition Schedule.
800 | Clinical Diagnostic Laboratory Date of Service for Archived Specimens.
801 | Instructions for Reporting New HCPCS Code V2788 for Presbyopia-Correcting Intraocular Lenses.
| Presbyopia-Correcting Intraocular Lenses (General Policy Information).
| Payment for Physician Services and Supplies.
| Coding and General Billing Requirements.
| Provider Notification Requirements.
| Beneficiary Liability.
802 | Termination of the Medicare HIPAA Incoming Claim Contingency Plan, Addition of a Self-Assessable Unusual Circumstance, Modification of the Obligated to Accept as Payment in Full Exception, and Modification of Administrative Simplification Compliance Act Exhibit Letters A, B and C General HIPAA Electronic Data Interchange Requirements.
| Continued Support of Pre-HIPAA Electronic Data Interchange Formats.
| National Council Prescription Drug Plans Narrative Portion of Prior Authorization Segment.
| A/X12 837 Coordination of Benefits.
| C/Legacy Formats.
| Use of Imaging, External Keyshop, and In-House Keying for Entry of Transaction Data Submitted on Paper.
| Electronic Data Interchange Receiver Testing by Carriers, Durable Medical Equipment Regional Carriers and Intermediaries.
| Carrier, Durable Medical Equipment Regional Carrier, and Fiscal Intermediary Submitter/Receiver Testing with Legacy Formats during the HIPAA Contingency Period.
| Discontinuation of Use of Coordination of Benefit Claim Legacy Formats Following Successful HIPAA Format Testing.
| Free Claim Submission Software.
| Key Shop and Image Processing.
| Mandatory Electronic Submission of Medicare Claims.
| Exceptions.
| Unusual Circumstance Waivers.
| Unusual Circumstance Waivers Subject to Provider Self-Assessment.
Medicare Secondary Payer
(CMS Pub. 100-05)
37 | Manualizing Long-Standing Medicare Secondary Payer Policy in Chapter 3 of the Medicare Secondary Payer Internet Only Manual.
| Limitation on Right To Charge a Beneficiary Where Services Are Covered by a Group Health Plan.
| Right of Providers to Charge Beneficiary Who Has Received Primary Payment From a Group Health Plan.
| Right of Physicians and Other Suppliers To Charge Beneficiary Who Has Received Primary Payment From a Group Health Plan.
| Payment When Proper Claim Not Filed.
| Situations in Which Medicare Secondary Payer Billing Applies.
| Provider, Physician, and Other Supplier Responsibility When a Request is Received From an Insurance Company or Attorney.
| Provider, Physician, and Other Supplier Responsibility When Duplicate Payments Are Received.
| Incorrect Group Health Plan Primary Payments.
| Retroactive Application.
| General Policy.
| Provider, Physician, and Other Supplier Billing.
| Provider Billing Where Services Are Covered by a Group Health Plan.
| Provider Billing Where Services Are Accident-Related and No-Fault Insurance May Be Available.
| Provider Bills No-Fault Insurance First.
| No-Fault Insurance Does Not Pay.
| Liability Claim Also Involved.
| Responsibility of Provider Where Benefits May Be Payable Under Workers' Compensation.
| Responsibility of Provider Where Benefits May Be Payable Under the Federal Black Lung Program.
| Provider Billing Medicare for Secondary Benefits Where Services Are Covered by a Group Health Plan.
| Instructions to Providers on How To Submit Claims to a Contractor When There Are Multiple Payers.
| Instructions to Physicians and Other Suppliers on How to Submit Claims to Contractors When There Are One or More Primary Payers.
| Completing the Form CMS 1450 in Medicare Secondary Payer Situations by Providers.
| Inpatient Services.
| Outpatient Bills, Part B Inpatient Services, and Home Health Agency Bills.
| Partial Payment by Primary Payer for Inpatient Services, Outpatient Services, Part B Inpatient Services and Home Health Agency Bills.
| Partial Payment by Primary Payer That Applies to Medicare Covered Services.
| Annotation of Claims Denied by Group Health Plans, Liability or No-Fault Insurers.
| Annotation of Claims to Request Conditional Payments.
| Completing the Form CMS 1500 in MSP Situations by Physicians and Other Suppliers of Services.
38 | Hospital Audit Workload Updates.
| Hospital Review Protocol for Medicare Secondary Payer.
| Reviewing Hospital Files.
| Frequency of Reviews and Hospital Selection Criteria.
| Methodology for Review of Admission and Bill Processing Procedures.
| Selection of Bill Sample.
| Methodology for Review of Hospital Billing Data.
| Review of Form CMS-1450.
| Use of Systems Files for Review.
| Assessment of Hospital Review.
39 | Request to Change Lead Contractor.
| Coordination with the Coordination of Benefits Contractor.
| Contractors Medicare Secondary Payer Auxiliary File Update Responsibility.
| Coordination of Benefit Contractor Electronic Correspondence Referral System.
| Providing Written Documents to the Coordination of Benefit Contractor.
| Contractor Record Retention.
| Notification to Contractor of Medicare Secondary Payer Auxiliary File Updates.
| Referring Calls to Coordination of Benefit Contractor.
| Changes in Contractor Initial Medicare Secondary Payer Development Activities.
| Additional Activities Arranged by Non-Group Health Plan Medicare Secondary Payer.
| Coordination of Benefit Contractors Numbers.
40 | Updates to the Group Health Plan Demand Letters.
| Recovery From the Provider, Physician or Other Supplier.
| Recovery From the Beneficiary That Has Received Payment From Both Medicare And a Group Health Plan.
| Provider, Physician or Other Supplier Group Health Plan Demand Letter.
| Beneficiary Group Health Plan Demand Letter.
| Recovery Management & Accounting System/Healthcare Integrated General Ledger Accounting System Group Health Plan General Information.
| Recovery Management & Accounting System/Healthcare Integrated General Ledger Accounting System Group Health Plan Demand Process.
| Recovery Management & Accounting System/Healthcare Integrated General Ledger Accounting System Group Health Plan Demand Letter.
| How To Resolve This Demand.
41 | Full Replacement of and Rescinding Change Request (CR) 3504—Modification to Online Medicare Secondary Payer Questionnaire.
| Admission Questions To Ask Medicare Beneficiaries.
42 | Updates to Medicare Secondary Payer Accounts Receivable Write-Off Procedures.
| Reclassification to Currently Not Collectible.
| Write-Off Closed for Medicare Secondary Payer Accounts Receivable.
| Identification of Medicare Secondary Payer Write-Off Closed Accounts.
| Write-off Closed Definition.
| Basis for Termination of Collection.
| Criteria for Medicare Secondary Payer Based Debts To Qualify for Write-Off Closed.
| Data Requirements and Format for Recommendations to the RO for Write-Off Closed.
| Write-Off Closed Notifications from Central Officer for Debts Which Have Been Returned by Treasury and Central Office Has Determined That No Further Collection Attempts Are Appropriate.
| Write off closed Approval Process for section 70.3.3 Recommendations to the Regional Office.
| Financial Reporting for Medicare Secondary Payer Write off Closed Regional Office/Central Office Responsibilities and Time-frames for Approvals And/Or Recommendations.
| Elimination of Automated Systems Write-Off Closed Actions for Medicare Secondary Payer Accounts Receivable; Reminder Zero Backend Tolerance For Medicare Secondary Payer Accounts Receivable.
| Date for Establishment of Medicare Secondary Payer Accounts Receivable.
| Additional Instructions for “Write-Off-Closed” for Debts of Less Than $25.00.
43 | Expanding the Voluntary Data Sharing Agreement Coordination of Benefit Contractor Numbers for the Common Working File.
| Definition of Medicare Secondary Payer/Common Working File Terms.
44 | This Transmittal is rescinded and replaced by Transmittal 46.
45 | Interest on Medicare Secondary Payment Debts.
| Interest on Medicare Secondary Payment Recovery Claims.
| Medicare Secondary Payment Debt Interest Calculation Methodology.
| Medicare Secondary Payment Debt Interest Accrual.
| Medicare Secondary Payment Debt Interest Accrual on Partial Payments.
| Medicare Secondary Payment Debt Interest Assessment.
| Additional Rules with Regard to the Assessment and Collection of Interest for Medicare Secondary Payment Based Debts.
46 | Updates to the Electronic Correspondence Referral System User Guide v9.0 and Quick Reference Card v9.0.
| Coordination of Benefit Contractor Electronic Referral System (includes the addition of Attachments 1 and 2).
Medicare Financial Management
(CMS Pub. 100-06)
79 | Discovery Code Indication for Recovery Audit Contractor Non-Medicare Secondary Payer Identified Overpayments.
80 | Medicare Contractors' Monthly Cash Collections.
| Medicare Contractor Monthly Cash Collections Worksheet.
81 | Recurring Update Notification for the Notice of New Interest Rate for Medicare Overpayments and Underpayments.
82 | This Transmittal is rescinded and replaced by Transmittal 85.
83 | This Transmittal is rescinded and replaced by Transmittal 84.
84 | Revised Instructions on Contractor Procedures for Provider Audit, and Clarification of Continuing Education and Training Requirements for Medicare Auditors.
| Submission of Cost Report Data to CMS.
| Audit Priority Consideration.
| Pre-Exit Conference.
| Finalization of Audit Adjustments.
| Standards for Performing Medicare Audits.
| Qualifications.
| Due Professional Care.
| Internal Quality Control.
| Final Settlement of the Cost Report.
| Timing and Completion of Home Office Audits.
| Acceptance of Home Office Cost Statements.
85 | Expansion of Form 5 of the Contractor Reporting of Operational and Workload Data.
86 | Development of New Report To Capture Benefit Improvement Protection Act and Medicare Modernization Act Appeals Data.
| Monthly Statistical Report on Intermediary and Carrier Part A and Part B Appeals Activity Form (CMS-2592).
| General.
| Section I—Redeterminations.
| Section II—Qualified Independent Contractor Reconsiderations.
| Section III—Administrative Law Judge Results.
| Section IV—Department Appeals Board Effectuations.
| Clerical Error Reopenings.
| Validation of Reports.
87 | Update to Carrier Demand Letter Appeals Language.
| Provider Protests Its Liability.
Medicare State Operations Manual
(Pub. 100-07)
12 | SOM Appendix PP—Guidance to Surveyors for Long Term Care Facilities.
13 | Revisions to Chapter 2, “The Certification Process,” Appendix E—“Providers of Outpatient Physical Therapy or Outpatient Speech Language Pathology Services” and Appendix “K—Comprehensive Outpatient Rehabilitation Facilities”.
| Types of Out Patient Therapy/Outpatient Speech Language Pathology Providers.
| Rehabilitation Agency.
| Clinics and Public Health Agencies.
| Sites of Service Provision.
| Outpatient Physical Therapy/Outpatient Speech Language Pathology Services Provided at More Than One Location.
| Outpatient Physical Therapy/Outpatient Speech Language Pathology Services at Locations Other Than Extension Locations.
| State Agency Annual Report to Regional Office on Locations of Extension Locations.
| Survey of Outpatient Physical Therapy/Outpatient Speech Language Pathology Extension Locations.
| Scope and Site of Services.
| Shared Space With Another Provider or Supplier.
| Sharing of Equipment.
14 | This Transmittal is rescinded and replaced by Transmittal 15.
15 | Medical Director Guidance.
Medicare Program Integrity
(CMS Pub.100-08)
126 | Implementation of Program Safeguard Contractor Access to the VIPS Medicare Shared System at All Durable Medical Equipment Carriers.
127 | Complaint Screening Revisions.
128 | Evidence of Medical Necessity: Wheelchair and Power Operated Vehicle Claims.
129 | Replacing the Use of Unique Physician Identification Numbers With the National Provider Identifiers.
130 | Correction/Clarification of Chapter 11.
| Medical Review Overview.
| Routine Review Workload and Cost (Activity Code 21002).
| Policy Reconsideration/Revision Activities (Activity Code 21206).
| New Policy Development Activities (Activity Code 21208).
| Complex Probe Review Workload and Cost (Activity Code 21220).
| Prepay Complex Review Workload and Cost (Activity Code 21221).
| Reporting LPET Workload and Cost Information and Documentation in CAFM II.
| Education Delivered to a Group of Providers Workload and Cost (Activity Code 24117).
131 | Medical Review Matching of Electronic Claims and Additional Documentation in the Medical Review Process.
| Documentation Specifications for Areas Selected for Prepayment or Postpayment Medical Review.
| Prepayment Review of Claims for Medical Review Purposes.
132 | New Process for Web Maintenance of Provider Enrollment Contractor Contact Information.
133 | Enrolling Indian Health Service Facilities as Durable Medical Equipment, Prosthetics, Orthotics, and Supplies Suppliers.
134 | Change in Provider Enrollment Timeliness Standards.
| Changes of Information.
| Timeframes for Processing Enrollment Applications.
Medicare Contractor Beneficiary and Provider Communications
(CMS Pub. 100-09)
14 | Provider Inquiry Reporting Standardization.
15 | Provider Customer Service Program.
| Introduction.
| Provider Services.
| Guidelines for Telephone Service.
| Toll Free Network Services.
| Publication of Toll Free Numbers.
| Call Handling Requirements.
| Customer Service Assessment and Management System Reporting Requirements.
| Staff Development and Training.
| Quality Call Monitoring.
| Fraud and Abuse.
| Provider Contact Center User Group.
| Performance Improvements.
| Written Inquiries.
| Contractor Guidelines for High Quality Responses to Written Inquiries.
| Quality Written Correspondence Monitoring.
| Quality Written Correspondence Monitoring Program.
| Quality Written Correspondence Monitoring Calibration.
| Quality Written Correspondence Monitoring Performance Standards.
| Disclosure of Information (Adherence to the Privacy Act) Disclosure Desk.
| Reference for Call Centers—Provider Portion.
| Provider Communications—Program Elements.
| Provider Service Plan.
| Provider Inquiry Analysis.
| Provider Claims Submission Error Analysis.
| Provider Communication Advisory Group.
| Bulletins/Newsletters/Educational Materials.
| Seminars/Workshops/Trainings/Teleconferences.
| New Technologies/Electronic Media.
| Training of Providers in Electronic Claims Submission.
| Provider Education and Beneficiary Use of Preventive Benefits.
| Internal Development of Provider Issues.
| Training of Provider Education Staff.
| Partnering with External Entities.
| Other Provider Education Subjects and Activities.
| Provider Education Material.
| Provider/Supplier Service Plan Quarterly Activity Report.
| Charging Fees to Providers for Medicare Education and Training Activities.
| Provider/Supplier Communications—Program Elements.
| Provider/Supplier Service Plan.
| Provider/Supplier Inquiry Analysis.
| Provider/Supplier Claims Submission Error Analysis.
| Provider/Supplier Communications Advisory Group.
| Bulletins/Newsletters/Educational Materials.
| Seminars/Workshops/Trainings/Teleconferences.
| New Technologies/Electronic Media.
| Training of Providers/Supplier in Electronic Claims Submission.
| Provider/Supplier Education and Beneficiary Use of Preventive Benefits.
| Internal Development of Provider/Supplier Issues.
| Training of Provider/Supplier Education Staff.
| Partnering With External Entities.
| Other Specific Provider/Supplier Education Subjects and Activities.
| Provider/Supplier Education Material.
| Provider Customer Service Program.
Medicare Managed Care
(CMS Pub. 100-16)
74 | Changes in Manual Instructions for Payment Principles for Cost Based Health Maintenance Organization/Comprehensive Medical Plan.
Medicare Business Partners Systems Security
(CMS Pub. 100-17)
06 | Business Partners Systems Security Manual.
Demonstrations
(CMS Pub. 100-19)
29 | Notification of New Value and Condition Codes for Medicare Demonstrations.
30 | The Medicare Chronic Care Improvement, “Medicare Health Support,” Program.
31 | This Transmittal is rescinded and replaced by Transmittal 35.
32 | Issued to a specific audience, not posted to Internet/Intranet due to Sensitivity of Instruction.
33 | Amendment to Rate for CPT 98943 for the Section 651 Expansion of Coverage of Chiropractic Services Demonstration.
34 | This Transmittal is rescinded and replaced by Transmittal 36.
35 | Physician's Voluntary Reporting Program.
36 | 2006 Oncology Demonstration Project.
One Time Notification
(CMS Pub. 100-20)
182 | Issued to a specific audience, not posted to Internet/Intranet due to Confidentiality Of Instruction.
183 | This Transmittal is rescinded and replaced by Transmittal 183
184 | National Modifier and Condition Code To Be Used To Identify Disaster Related Claims.
185 | Payment Allowances for the Influenza Virus Vaccine (CPT 90655, 90656, 90657, and 90658) and the Pneumoccocal Vaccine (CPT 90732) When Payment Is Based on 95 Percent of the Average Wholesale Price.
186 | Coverage by Medicare Advantage Plans for Implantable Automatic Cardiac Defibrillator Services Not Previously Included in MA Capitation Rates.
187 | Issued to a specific audience, not posted to Internet/Intranet due to Confidentiality Of Instruction.
188 | Issued to a specific audience, not posted to Internet/Intranet due to Confidentiality Of Instruction.
189 | Issued to a specific audience, not posted to Internet/Intranet due to Sensitivity of Instruction.
190 | Stage 2 Requirements for Use and Editing of National Provider Identifier Numbers Received in Electronic Data Interchange Transaction, via Direct Data Entry Screens, or Paper Claim Forms.
191 | Noridian North Dakota/South Dakota Carrier Number Issue.
192 | Issued to a specific audience, not posted to Internet/Intranet due to Confidentiality Of Instruction.
193 | Change of Medicare Part B Contractor in the State of Utah from Regence Blue Cross and Blue Shield of Utah to Noridian Administrative Services.
194 | Calculation of the Interim Payment of Indirect Medical Education Through The Inpatient Prospective Payment System Pricer for Hospitals That Received an Increase to Their Full-Time Equivalent Resident Caps Under Section 422 of the Medicare Modernization Act, Pub. L. 108-173.
195 | Change of Medicare Part A Contractor in the States of Idaho, Oregon, and Utah From Regence Blue Cross and Blue Shield to Noridian Administrative Services.
196 | Issued to a specific audience, not posted to the Internet/Intranet due to Sensitivity of Instruction.
197 | Inpatient Prospective Payment System and Skilled Nursing Facilities Wage Index Corrections Fiscal Year 2006.
198 | Termination of the Existing Eligibility-File Based Crossover Process at All Medicare Contractors.
199 | New Medicare Summary Note Message Used for the Physician's Voluntary Reporting Program.

Addendum IV.—Regulation Documents Published in the Federal Register October Through December 2005
Publication date | FR Vol. 70 page number | CFR parts affected | File code | Title of regulation
October 4, 2005 | 57785 | 405, 412, 413, 419, 422, and 485 | CMS-1500-F2 | Medicare Program; Changes to the Hospital Inpatient Prospective Payment Systems and Fiscal Year 2006 Rates; Correcting Amendment.
October 5, 2005 | 58260 | 431 and 457 | CMS-6026-IFC | Medicaid Program and State Children's Health Insurance Program (SCHIP); Payment Error Rate Measurement.
October 7, 2005 | 58834 | 483 | CMS-3198-F | Medicare and Medicaid Programs; Condition of Participation: Immunization Standard for Long Term Care Facilities.
October 7, 2005 | 58649 | 421 | CMS-6022-P | Medicare Program; Termination of Non-Random Prepayment Review.
October 11, 2005 | 59182 | 411 | CMS-1303-P | Medicare Program; Physicians' Referrals to Health Care Entities With Which They Have Financial Relationships; Exceptions for Certain Electronic Prescribing and Electronic Health Records Arrangements.
October 28, 2005 | 62124 |  | CMS-1316-N | Medicare Program; Meeting of the Practicing Physicians Advisory Council, December 5, 2005.
October 28, 2005 | 62065 | 483 | CMS-3121-F | Medicare and Medicaid Program; Requirements for Long Term Care Facilities; Nursing Services; Posting of Nursing Staffing Information.
November 7, 2005 | 67568 | 423 | CMS-0011-F | Medicare Program; E-Prescribing and the Prescription Drug Program.
November 9, 2005 | 68132 | 484 | CMS-1301-F | Medicare Program; Home Health Prospective Payment System Rate Update for Calendar Year 2006.
November 10, 2005 | 68516 | 419 and 485 | CMS-1501-FC | Medicare Program; Changes to the Hospital Outpatient Prospective Payment System and Calendar Year 2006 Payment Rates.
November 21, 2005 | 70478 | 414 | CMS-1325-IFC3 | Medicare Program; Exclusion of Vendor Purchases Made Under the Competitive Acquisition Program (CAP) for Outpatient Drugs and Biologicals Under Part B for the Purpose of Calculating the Average Sales Price (ASP).
November 21, 2005 | 70116 | 405, 410, 411, 413, 414, 424, and 426 | CMS1502-F and CMS-1325-F | Medicare Program; Revisions to Payment Policies Under the Physician Fee Schedule for Calendar Year 2006 and Certain Provisions Related to the Competitive Acquisition Program of the Outpatient Drugs and Biologicals Under Part B.
November 22, 2005 | 70532 | 418 | CMS-1022-F | Medicare Program; Hospice Care Amendments.
November 25, 2005 | 71163 |  | CMS-1294-N | Medicare Program; Coverage and Payment of Ambulance Services; Inflation Update for CY 2006.
November 25, 2005 | 71020 | 144, 146, 148, and 150 | CMS-4091-F | Federal Enforcement in Group and Individual Health Insurance Markets.
November 25, 2005 | 71008 | 424 | CMS-0008-F | Medicare Program; Electronic Submission of Medicare Claims.
November 25, 2005 | 71006 | 403 | CMS-1428-F3 | Medicare Program; Changes to the Hospital Inpatient Prospective Payment System and Fiscal Year 2005 Rates: Fire Safety Requirements for Religious Non-Medical Health Care Institutions: Correction to Reinstate Requirements for Written Fire Control Plans and Maintenance of Documentation.
December 13, 2005 | 73623 | 405 | CMS-1908-F | Medicare Program; Application of Inherent Reasonableness Payment Policy to Medicare Part B Services (Other Than Physician Services).
December 23, 2005 | 76317 |  | CMS-4112-N | Medicare Program; Meeting of the Advisory Panel on Medicare Education, January 26, 2006.
December 23, 2005 | 76315 |  | CMS-1329-N | Medicare Program; Town Hall Meeting on the Fiscal Year 2007 Applications for New Medical Services and Technologies Add-On Payments Under the Hospital Inpatient Prospective Payment System Scheduled for February 16, 2006.
December 23, 2005 | 76313 |  | CMS-1289-N | Medicare Program; Meeting of the Advisory Panel on Ambulatory Payment Classification (APC) Groups—March 1, 2, and 3, 2006.
December 23, 2005 | 76290 |  | CMS-9033-N | Medicare and Medicaid Programs; Quarterly Listing of Program Issuances—July Through September 2005.
December 23, 2005 | 76199 | 484 | CMS-3006-F | Medicare and Medicaid Programs; Reporting Outcome and Assessment Information Set Data as Part of the Conditions of Participation for Home Health Agencies.
December 23, 2005 | 76198 | 423 | CMS-0011-CN | Medicare Program; E-Prescribing and the Prescription Drug Program; Correction.
December 23, 2005 | 76196 | 422 | CMS-4069-F4 | Medicare Program; Establishment of the Medicare Advantage Program.
December 23, 2005 | 76176 | 419 and 485 | CMS-1501-CN2 | Medicare Program; Changes to the Hospital Outpatient Prospective Payment System and Calendar Year 2006 Payment Rates; Correction.
December 23, 2005 | 76175 | 418 | CMS-1286-CN2 | Medicare Program; Hospice Wage Index for Fiscal Year 2006.

Addendum V—National Coverage Determinations [October Through December 2005]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[October through December 2005]
Title | NCDM section | TN No. | Issue date | Effective date
Lung Volume Reduction Surgery | 240.1 | R44NCD | 12/2/05 | 11/17/05
Stem Cell Transplantation | 110.8 | R45NCD | 12/6/05 | 11/28/05

Addendum VI—FDA-Approved Category B IDEs [October Through December 2005]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the fourth quarter, October through December 2005.

IDE/Category

G040190

G040194

G050048

G050092

G050116

G050118

G050140

G050151

G050187

G050191

G050192

G050193

G050195

G050198

G050200

G050202

G050204

G050205

G050206

G050207

G050208

G050210

G050214

G050217

G050221

G050222

G050223

G050224

G050228

G050230

G050231

G050232

G050234

G050235

G050236

G050239

G050244

G050245

Addendum VII—Approval Numbers for Collections of Information

Below we list all approval numbers for collections of information in the referenced sections of CMS regulations in Title 42; Title 45, Subchapter C; and Title 20 of the Code of Federal Regulations, which have been approved by the Office of Management and Budget:

OMB Control Numbers
[Approved CFR Sections in Title 42, Title 45, and Title 20 (Note: Sections in Title 45 are preceded by “45 CFR,” and sections in Title 20 are preceded by “20 CFR”)]
OMB No. | Approved CFR Sections
0938-0008 | 414.40, 424.32, 424.44.
0938-0022 | 413.20, 413.24, 413.106.
0938-0023 | 424.103.
0938-0025 | 406.28, 407.27.
0938-0027 | 486.100-486.110.
0938-0034 | 405.821.
0938-0035 | 407.40.
0938-0037 | 413.20, 413.24.
0938-0041 | 408.6.
0938-0042 | 410.40, 424.124.
0938-0045 | 405.711.
0938-0046 | 405.2133.
0938-0050 | 413.20, 413.24.
0938-0062 | 431.151, 435.151, 435.1009, 440.220, 440.250, 442.1, 442.10-442.16, 442.30, 442.40, 442.42, 442.100-442.119, 483.400-483.480, 488.332, 488.400, 498.3-498.5.
0938-0065 | 485.701-485.729.
0938-0074 | 491.1-491.11.
0938-0080 | 406.13.
0938-0086 | 420.200-420.206, 455.100-455.106.
0938-0101 | 430.30.
0938-0102 | 413.20, 413.24.
0938-0107 | 413.20, 413.24.
0938-0146 | 431.800-431.865.
0938-0147 | 431.800-431.865.
0938-0151 | 493.1-493.2001.
0938-0155 | 405.2470.
0938-0193 | 430.10-430.20, 440.167.
0938-0202 | 413.17, 413.20.
0938-0214 | 411.25, 489.2, 489.20.
0938-0236 | 413.20, 413.24.
0938-0242 | 416.44, 418.100, 482.41, 483.270, 483.470.
0938-0245 | 407.10, 407.11.
0938-0251 | 406.7.
0938-0266 | 416.1-416.150.
0938-0267 | 485.56, 485.58, 485.60, 485.64, 485.66.
0938-0269 | 412.116, 412.632, 413.64, 413.350, 484.245.
0938-0270 | 405.376.
0938-0272 | 440.180, 441.300-441.305.
0938-0273 | 485.701-485.729.
0938-0279 | 424.5.
0938-0287 | 447.31.
0938-0296 | 413.170, 413.184.
0938-0301 | 413.20, 413.24.
0938-0302 | 418.22, 418.24, 418.28, 418.56, 418.58, 418.70, 418.74, 418.83, 418.96, 418.100.
0938-0313 | 489.11, 489.20.
0938-0328 | 482.12, 482.13, 482.21, 482.22, 482.27, 482.30, 482.41, 482.43, 482.45, 482.53, 482.56, 482.57, 482.60, 482.61, 482.62, 482.66, 485.618, 485.631.
0938-0334 | 491.9, 491.10.
0938-0338 | 486.104, 486.106, 486.110.
0938-0354 | 441.50.
0938-0355 | 442.30, 488.26.
0938-0358 | 488.26.
0938-0359 | 412.40-412.52.
0938-0360 | 488.60.
0938-0365 | 484.10, 484.11, 484.12, 484.14, 484.16, 484.18, 484.20, 484.36, 484.48, 484.52.
0938-0372 | 414.330.
0938-0378 | 482.60-482.62.
0938-0379 | 442.30, 488.26.
0938-0382 | 442.30, 488.26.
0938-0386 | 405.2100-405.2171.
0938-0391 | 488.18, 488.26, 488.28.
0938-0426 | 480.104, 480.105, 480.116, 480.134.
0938-0429 | 447.53.
0938-0443 | 478.13, 478.34, 478.36, 478.42.
0938-0444 | 1004.40, 1004.50, 1004.60, 1004.70.
0938-0445 | 412.44, 412.46, 431.630, 476.71, 476.74, 476.78.
0938-0447 | 405.2133.
0938-0448 | 405.2133, 45 CFR 5, 5b; 20 CFR Parts 401, 422E.
0938-0449 | 440.180, 441.300-441.310.
0938-0454 | 424.20.
0938-0456 | 412.105.
0938-0463 | 413.20, 413.24, 413.106.
0938-0467 | 431.17, 431.306, 435.910, 435.920, 435.940-435.960.
0938-0469 | 417.126, 422.502, 422.516.
0938-0470 | 417.143, 422.6.
0938-0477 | 412.92.
0938-0484 | 424.123.
0938-0501 | 406.15.
0938-0502 | 433.138.
0938-0512 | 486.304, 486.306, 486.307.
0938-0526 | 475.102, 475.103, 475.104, 475.105, 475.106.
0938-0534 | 410.38, 424.5.
0938-0544 | 493.1-493.2001.
0938-0564 | 411.32.
0938-0565 | 411.20-411.206.
0938-0566 | 411.404, 411.406, 411.408.
0938-0573 | 412.256.
0938-0578 | 447.534.
0938-0581 | 493.1-493.2001.
0938-0599 | 493.1-493.2001.
0938-0600 | 405.371, 405.378, 413.20.
0938-0610 | 417.436, 417.801, 422.128, 430.12, 431.20, 431.107, 440.170, 483.6, 483.10, 484.10, 489.102.
0938-0612 | 493.801, 493.803, 493.1232, 493.1233, 493.1234, 493.1235, 493.1236, 493.1239, 493.1241, 493.1242, 493.1249, 493.1251, 493.1252, 493.1253, 493.1254, 493.1255, 493.1256, 493.1261, 493.1262, 493.1263, 493.1269, 493.1273, 493.1274, 493.1278, 493.1283, 493.1289, 493.1291, 394.1299.
0938-0618 | 433.68, 433.74, 447.272.
0938-0653 | 493.1771, 493.1773, 493.1777.
0938-0657 | 405.2110, 405.2112.
0938-0658 | 405.2110, 405.2112.
0938-0667 | 482.12, 488.18, 489.20, 489.24
0938-0685 | 410.32, 410.71, 413.17, 424.57, 424.73, 424.80, 440.30, 484.12.
0938-0686 | 493.551-493.557.
0938-0688 | 486.304, 486.306, 486.307, 486.310, 486.316, 486.318, 486.325.
0938-0691 | 412.106.
0938-0692 | 466.78, 489.20, 489.27.
0938-0701 | 422.152.
0938-0702 | 45 CFR 146.111, 146.115, 146.117, 146.150, 146.152, 146.160, 146.180.
0938-0703 | 45 CFR 148.120, 134,122, 148.124, 148.126, 148.128.
0938-0714 | 411.370-411.389.
0938-0717 | 424.57.
0938-0721 | 410.33.
0938-0723 | 421.300-421.316.
0938-0730 | 405.410, 405.430, 405.435, 405.440, 405.445, 405.455, 410.61, 415.110, 424.24.
0938-0732 | 417.126, 417.470
0938-0734 | 45 CFR 5b.
0938-0739 | 413.337, 413.343, 424.32, 483.20.
0938-0749 | 424.57.
0938-0753 | 422.000-422.700.
0938-0754 | 441.151, 441.152.
0938-0758 | 413.20, 413.24.
0938-0760 | 484.55, 484.205, 484.245, 484.250.
0938-0761 | 484.11, 484.20.
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350.
0938-0770 | 410.2.
0938-0778 | 422.111, 422.564.
0938-0779 | 417.126, 417.470, 422.64, 422.210.
0938-0781 | 411.404, 484.10.
0938-0786 | 438.352, 438.360, 438.362, 438.364.
0938-0790 | 460.12-460.210.
0938-0792 | 491.8, 491.11.
0938-0798 | 413.24, 413.65, 419.42.
0938-0802 | 419.43.
0938-0818 | 410.-141-410.146, 414.63.
0938-0829 | 422.568.
0938-0832 | Parts 489 and 491.
0938-0833 | 483.350-483.376.
0938-0841 | 431.636, 457.50, 457.60, 457.70, 457.340, 457.350, 457.431, 457.440, 457.525, 457.560, 457.570, 457.740, 457.750, 457.810, 457.940, 457.945, 457.965, 457.985, 457.1005, 457.1015, 457.1180.
0938-0842 | 412.23, 412.604, 412.606, 412.608, 412.610, 412.614, 412.618, 412.626, 413.64.
0938-0846 | 411.352-411.361.
0938-0857 | Part 419.
0938-0860 | Part 419.
0938-0866 | 45 CFR Part 162.
0938-0872 | 413.337, 483.20.
0938-0873 | 422.152.
0938-0874 | 45 CFR Parts 160 and 162.
0938-0878 | Part 422 Subpart F and G.
0938-0887 | 45 CFR 148.316, 148.318, 148.320.
0938-0897 | 412.22, 412.533.
0938-0907 | 412.230, 412.304, 413.65.
0938-0910 | 422.620, 422.624, 422.626.
0938-0911 | 426.400, 426.500.
0938-0915 | 421.120, 421.122.
0938-0916 | 483.16.
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810.
0938-0921 | 414.804.
0938-0931 | 45 CFR Part 142.408, 162.408, and 162.406.
0938-0933 | 438.50.
0938-0934 | 403.766.
0938-0936 | 423.
0938-0939 | 405.502.
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350.
0938-0950 | 405.910.
0938-0951 | 423.48.
0938-0953 | 405.1200 and 405.1202.
0938-0954 | 414.906, 414.908, 414.910, 414.914, 414.916.

Addendum VIII—Medicare-Approved Carotid Stent Facilities [October Through December 2005]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

October 2005

10/4/05

Firelands Regional Medical Center, 1101 Decatur Street, Sandusky, OH 44870

Medicare Provider #360025

qMeritCare Hospital, 720 4th Street N, P.O. Box MC, Fargo, ND 58122

Medicare Provider #350011

Presbyterian Healthcare, 200 Hawthorne Lane, Charlotte, NC 28204

Medicare Provider #340053

Regions Hospital, 640 North Jackson Street, St. Paul, MN 55101

Medicare Provider #240106

Saint Agnes Medical Center, 1303 East Herndon Avenue, Fresno, CA 93720

Medicare Provider #050093

Saint Francis Medical Center, 211 Saint Francis Drive, Cape Girardeau, MO 63703-8399

Medicare Provider #260183

Staten Island University Hospital, 475 Seaview Avenue, Staten Island, NY 10305-3498

Medicare Provider #330160

Baptist Medical Center, 111 Dallas Street, San Antonio, TX 78205-1230

Medicare Provider #450058

Bayonne Medical Center, 29th Street at Avenue E, Bayonne, NJ 07002

Medicare Provider #310025

Memorial Medical Center, 1086 Franklin Street, Johnstown, PA 15905-4398

Medicare Provider #390110

NorthEast Medical Center, 920 Church Street, North, Concord, NC 28025

Medicare Provider #340001

St. Francis Medical Center, 309 Jackson Street, P.O. Box 1901, Monroe, LA 71210-1901

Medicare Provider #190125

UHHS University Hospitals of Cleveland, 11100 Euclid Avenue, Cleveland, OH 44106-5006

Medicare Provider #360137

10/11/05

St. Catherine Hospital, 4321 Fir Street, East Chicago, IN 46312

Medicare Provider #015008

University Hospital, 234 Goodman ML 700, Cincinnati, OH 45219

Medicare Provider #360003

Frankford Hospital, Frankford Avenue & Wakeling Street, Philadelphia, PA 19124

Medicare Provider #390115

Memorial Hospital of South Bend, 615 North Michigan Street, South Bend, IN 46601

Medicare Provider #150058

Mills-Peninsula Health Services, 1783 El Camino Real, Burlingame, CA 94010

Medicare Provider #050007

Mount Clemens General Hospital, 1000 Harrington Boulevard, Mount Clemens, MI 48043

Medicare Provider #230227

SouthCrest Hospital, 8801 South 101st East Avenue, Tulsa, OK 74133

Medicare Provider #370202

St. Mary Medical Center, 1500 South Lake Park Avenue, Hobart, IN 46342

Medicare Provider #150034

St. Mary's Health System, 900 E. Oak Hill Avenue, Knoxville, TN 37917

Medicare Provider #440120

University of Illinois Medical Center at Chicago, 1740 West Taylor Street, Suite 1400, Chicago, IL 60612

Medicare Provider #140150

Wuesthoff Health System Rockledge, 110 Longwood Avenue, P.O. Box 565002 Rockledge, FL 32956-5002

Medicare Provider #010092

10/14/05

Baylor Regional Medical Center at Grapevine, 1650 West College Street, Grapevine, TX 76051

Medicare Provider #450563

Harborview Medical Center, 325 Ninth Avenue, Seattle, WA 98104-2499

Medicare Provider #500064

Hendrico Doctors' Hospital,

Forest Campus—Administration, 1602 Skipwith Road, Richmond, VA 23229

Medicare Provider #049118

Methodist Dallas Medical Center, P.O. Box 655999, Dallas, TX 75265-5999

Medicare Provider #450051

North Kansas City Hospital, 2800 Clay Edwards Drive, Kansas City, MO 64116

Medicare Provider #260096

University Community Hospital, Inc., 3100 East Fletcher Avenue, Tampa, FL 33613

Medicare Provider #100173

10/21/05

AtlantiCare Regional Medical Center, 65 Jimmie Leeds Road, Pomona, NJ 08240

Medicare Provider #310064

Boston Medical Center Corporation, One Boston Medical Center Place, Boston, MA 02118

Medicare Provider #220031

Robert Wood Johnson University Hospital, One Robert Wood Johnson Place, P.O. Box 2601, New Brunswick, NJ 08903-2601

Medicare Provider #210038

University Hospital, 1350 Walton Way, Augusta, GA 30901-2629

Medicare Provider #110028

Via Christi Regional Medical Center, 929 N. St. Francis, Wichita, KS 67214-3882

Medicare Provider #170122

10/24/05

Advocate South Suburban Hospital, 17800 South Kedzie Avenue, Hazel Crest, IL 60429-0989

Medicare Provider #140250

Baptist Health Medical Center-Little Rock, 9601 Interstate 630, Exit 7, Little Rock, AR 72205-7299

Medicare Provider #040114

Bassett Healthcare, One Atwell Road, Cooperstown, NY 13326-1394

Medicare Provider #330136

Bay Regional Medical Center, 1900 Columbus Avenue, Bay City, MI 48708

Medicare Provider #230041

Mercy Medical Center, 500 S. Oakwood Road, P.O. Box 3370, Oshkosh, WI 54904-3370

Medicare Provider #520048

Sharp Chula Vista Medical Center, 751 Medical Center Court, Chula Vista, CA 91911-6699

Medicare Provider #050222

The Miriam Hospital, 164 Summit Avenue, Providence, RI 02906

Medicare Provider #410012

The University of California San Diego Medical Center, 200 W. Arbor Drive, San Diego, CA 92103

Medicare Provider #050025

USC University Hospital, 1500 San Pablo Street, Los Angeles, CA 90033

Medicare Provider #050696

10/27/05

Baylor Heart & Vascular Hospital, 621 North Hall Street, Dallas, TX 75226

Medicare Provider #450851

Columbus Regional Healthcare System, 710 Center Street P.O. Box 951, Columbus, GA 31902

Medicare Provider #110064

Deaconess Billings Clinic, 2800 Tenth Avenue North, P.O. Box 37000, Billings, MT 59107-7000

Medicare Provider #270004

Kaiser Permanente San Diego Medical Center, Kaiser Foundation Hospital, 4647 Zion Avenue, San Diego, CA 92120

Medicare Provider #050515

Kaweah Delta District Hospital, 400 West Mineral King, Visalia, CA 93291-6263

Medicare Provider #050057

Lexington County Health Services District, Inc. d/b/a Lexington Medical Center, 2720 Sunset Boulevard, West Columbia, SC 29169

Medicare Provider #420073

Nazareth Hospital, 2601 Holme Avenue, Philadelphia, PA 19152

Medicare Provider #390204

Sharp Memorial Hospital, 7901 Frost Street, San Diego, CA 92123

Medicare Provider #050100

St. Vincent Medical Center, 2800 Main Street, Bridgeport, CT 06606

Medicare Provider #070028

Summa Health Systems, 525 E. Market Street, Akron, OH 44304-1698

Medicare Provider #360020

The Health Network of The Chester County Hospital, 701 E. Marshall Street, West Chester, PA 19380

Medicare Provider #390179

The Toledo Hospital, 2124 N. Cove Boulevard, Toledo, OH 43606

Medicare Provider #360068

November 2005

11/1/05

Brandon Regional Hospital, 119 Oakfield Drive, Brandon, FL 33511

Medicare Provider #100243

Cape Cod Hospital, P.O. Box 640, 27 Park Street, Hyannis, MA 02601

Medicare Provider #220012

St. Elizabeth Hospital, 1506 South Oneida Street, Appleton, WI 54915

Medicare Provider #520009

11/3/05

Athens Regional Medical Center, 1199 Prince Avenue, Athens, GA 30606

Medicare Provider #110074

Foote Hospital, 205 North East Avenue, Jackson, MI 49201

Medicare Provider #230092

Memorial Herman Southwest Hospital, 7600 Beechnut, Houston, TX 77074

Medicare Provider #450184

Regional Medical Center of San Jose, 225 North Jackson Avenue, San Jose, CA 95116-1691

Medicare Provider #050125

St. Luke Hospital, 7380 Turfway Road, Florence, KY 41042

Medicare Provider #180045

11/4/05

Arlington Memorial Hospital, 800 West Randol Mill Road, Arlington, TX 76012

Medicare Provider #450064

Calvert Memorial Hospital, 100 Hospital Road, Prince Frederick, MD 20678

Medicare Provider #210039

Community Memorial Hospital of San Buenaventura, 147 North Brent Street, Ventura, CA 93003-2854

Medicare Provider #050394

Lancaster General Hospital, 555 North Duke Street, P.O. Box 3555, Lancaster, PA 17604-3555

Medicare Provider #390100

St. Clair Hospital, 1000 Bower Hill Road, Pittsburgh, PA 15243

Medicare Provider #390228

11/10/05

Banner Thunderbird Medical Center, 5555 West Thunderbird Road, Glendale, AZ 85306

Medicare Provider #030089

CHRISTUS Spohn Hospital Corpus Christi Shoreline, 600 Elizabeth Street, Corpus Christi, TX 78404

Medicare Provider #450046

Cooper University Hospital, One Cooper Plaza, Camden, NJ 08103-1489

Medicare Provider #310014

Maine Medical Center, 22 Bramhall Street, Portland, ME 04102-3175

Medicare Provider #200009

Northeast Alabama Regional Medical Center, Post Office Box 2208, Anniston, AL 36202

Medicare Provider #010078

Virginia Hospital Center, 1701 N. George Mason Drive, Arlington, VA 22205-3698

Medicare Provider #490050

Wuestoff Health System Melbourne, 250 North Wickham Road, Melbourne, FL 32935

Medicare Provider #100291

11/14/05

Anne Arundel Medical Center, 2001 Medical Parkway, Annapolis, MD 21401

Medicare Provider #210023

CHRISTUS Schumpert Health System, One St. Mary Place, Shreveport, LA 71121

Medicare Provider #190041

Eisenhower Medical Center, 39000 Bob Hope Drive, Rancho Mirage, CA 92270

Medicare Provider #050573

Methodist Healthcare-Memphis Hospitals, 1211 Union Avenue, Memphis, TN 38104

Medicare Provider #440049

Waukesha Memorial Hospital, 725 American Avenue, Waukesha, WI 53188

Medicare Provider #520008

11/18/05

Ashtabula County Medical Center, 2420 Lake Avenue, Ashtabula, OH 44004

Medicare Provider #360125

Carle Foundation Hospital, 611 S. Park Street, Urbana, IL 61801

Medicare Provider #140091

New York Methodist Hospital, 506 Sixth Street, Brooklyn, NY 11215-9008

Medicare Provider #330236

Rush-Copely Medical Center, 2000 Ogden Avenue, Aurora, IL 60504

Medicare Provider #140029

Saint Clare's Hospital, 25 Pocono Road, Denville, NJ 07834

Medicare Provider #310050

Sherman Health, 934 Center Street, Elgin, IL 60120

Medicare Provider #140030

The Hospital at Westlake Medical Center, 5656 Bee Caves Road, Ste M-302, Austin, TX 78746

Medicare Provider #670006

11/21/05

CentraState Medical Center, 901 W. Main Street, Freehold, NJ 07728

Medicare Provider #310111

Doctors' Hospital of Opelousas, 3983 I-49 South Service Road, Opelousas, LA 70570

Medicare Provider #190191

Henry Ford Hospital, 2799 West Grand Boulevard, Detroit, MI 48202

Medicare Provider #230053

LaPorte Regional Health Systems, 1007 Lincolnway, P.O. Box 250, LaPorte, IN 46352-0250

Medicare Provider #150006

Memorial Hermann Hospital, 6411 Fannin Street, Houston, TX 77030

Medicare Provider #450068

Morton Plant North Bay Hospital, 6600 Madison Street, New Port Richey, FL 34652

Medicare Provider #100063

Santa Barbara Cottage Hospital, Post Office Box 689, Pueblo at Bath Street, Santa Barbara, CA 93102-0689

Medicare Provider #050396

St. John Medical Center, 1923 South Utica Avenue, Tulsa, OK 74104

Medicare Provider #370114

Kaiser Foundation Hospital, Hawaii Region, 3288 Moanalua Road, Honolulu, HI 96819

Medicare Provider #120011

King County Public Hospital District #1, DBA: Valley Medical Center, 400 South 43rd Street, P.O. Box 50010, Renton, WA 98058-5010

Medicare Provider #500088

Medical Center East, 50 Medical Park East Drive, Birmingham, AL 35235

Medicare Provider #010011

11/28/05

Mercy Hospital, 2601 Electric Avenue, Port Huron, MI 48060-6518

Medicare Provider #230031

Northwest Community Hospital, 800 West Central Road, Arlington Heights, IL 60005-2392

Medicare Provider #140252

St. Joseph's Healthcare, 15855 Nineteen Mile Road, Clinton Township, MI 48038

Medicare Provider #230047

11/29/05

Alegent Health Immanuel Medical Center, 6901 North 72nd Street, Omaha, NE 68122-1799

Medicare Provider #099398

Desert Valley Hospital, 16850 Bear Valley Road, Victorville, CA 92395

Medicare Provider #050709

MedCentral Health System, 335 Glessner Avenue, Mansfield, OH 44903-2265

Medicare Provider #360118

Memorial Hospital of Carbondale, 405 West Jackson Street, P.O. Box 10000, Carbondale, IL 62902-9000

Medicare Provider #140164

Providence Medical Center, 8929 Parallel Parkway, Kansas City, KS 66112

Medicare Provider #170009

St. Mary Medical Center, 18300 Highway 18, Apple Valley, CA 92307

Medicare Provider #05300

Sutter Medical Center Santa Rosa, 3325 Chanate Road, Santa Rosa, CA 95404

Medicare Provider #050291

Tucson Heart Hospital, 4888 North Stone Avenue, Tucson, AZ 85704

Medicare Provider #030100

United Hospital Center, Post Office Box 1680, Clarksburg, WV 26302-1680

Medicare Provider #510006

December 2005

12/1/05

All Saints Healthcare System, 3801 Spring Street, Racine, WI 53405

Medicare Provider #520096

Beaufort Memorial Hospital, 955 Ribaut Road, Beaufort, SC 29902-5454

Medicare Provider #420067

Self Regional Healthcare, 1325 Spring Street, Greenwood, SC 29646

Medicare Provider #420071

12/5/05

Citrus Memorial Health Foundation, Inc., 502 W. Highland Blvd, Inverness, FL 34452-4754

Medicare Provider #100023

Poudre Valley Hospital, 1024 South Lemay Avenue, Fort Collins, CO 80524

Medicare Provider #060010

St. Joseph's Hospital Health Center, 301 Prospect Avenue, Syracuse, NY 13203-1898

Medicare Provider #330140

UNC Hospitals, 101 Manning Drive, Chapel Hill, NC 27514

Medicare Provider #340061

12/6/05

O'Connor Hospital, 2105 Forest Avenue, San Jose, CA 95128

Medicare Provider #050153

University of Minnesota Medical Center Fairview, 2450 Riverside Avenue, Minneapolis, MN 55424

Medicare Provider #240080

Wyoming Medical Center, 1233 E. 2nd Street, Casper, WY 82601

Medicare Provider #530012

12/12/05

Chesapeake General Hospital, 736 Battlefield Boulevard, North, Chesapeake, VA 23320

Medicare Provider #490120

Exempla Lutheran Medical Center, 8300 West 38th Avenue, Wheat Ridge, CO 80033

Medicare Provider #060009

Gaston Memorial Hospital, 2525 Court Drive, Gastonia, NC 28054, Medicare Provider #340032

Parkridge Medical Center, 2333 McCallie Avenue, Chattanooga, TN 37404, Medicare Provider #440156

12/19/05

Baton Rouge General Medical Center, 3600 Florida Boulevard, Baton Rouge, LA 70806, Medicare Provider #190065

Broward General Medical Center, 1600 South Andrews Avenue, Ft. Lauderdale, FL 33316, Medicare Provider #100039

Good Samaritan Medical Center, 1309 Flagler Drive, West Palm Beach, FL 33401, Medicare Provider #100287

Largo Medical Center, 201 14th Street SW, Mail P.O. Box 2905, Largo, FL 33770, Medicare Provider #100248

Memorial Hermann Baptist Hospital-Beaumont, 3080 College Street, Beaumont, TX 77701, Medicare Provider #450346

The Nebraska Medical Center, 987400 Nebraska Medical Center, Omaha, NE 68198-7400, Medicare Provider #280013

Providence Everett Medical Center, 1321 Colby Avenue, Everett, WA 98201, Medicare Provider #500014

Roper Hospital, 316 Calhoun Street, Charleston, SC 29401, Medicare Provider #420087

Santa Clara Valley Medical Center, 751 South Bascom Avenue, San Jose, CA 95128, Medicare Provider #050038

Stanford Hospital & Clinics, 300 Pasteur Drive, Stanford, CA 94305, Medicare Provider #050441

The University of Chicago Hospitals, AMB W-606 MC 6091, 5841 South Maryland Avenue, Chicago, IL 60637-1470, Medicare Provider #140088

University of Utah Hospitals and Clinics, 50 North Medical Drive, Salt Lake City, UT 84132, Medicare Provider #460009

12/21/05

Community Medical Center Healthcare System, 1800 Mulberry Street, Scranton, PA 18510, Medicare Provider #390001

Mercy General Health Partners in Muskegon, Michigan, 1500 East Sherman Boulevard, Muskegon, MI 49444, Medicare Provider #230004

St. Luke's Medical Center, 190 East Bannock Street, Boise, ID 83712, Medicare Provider #130006

12/28/05

Riverside Healthcare Systems, LP, Dba Riverside Community Hospital, 4445 Magnolia Avenue, Riverside, CA 92501, Medicare Provider #050022

Santa Rosa Memorial Hospital, 1165 Montgomery Drive, Santa Rosa, CA 95405-4801, Medicare Provider #050174

San Joaquin Community Hospital, 2615 Eye Street, P.O. Box 2615, Bakersfield, CA 93303-2615, Medicare Provider #050455

United Hospital, 333 North Smith Avenue, St. Paul, MN 55102, Medicare Provider #240038

12/30/05

Georgetown University Hospital, 3800 Reservoir Road, NW, Washington, DC 20007-2113, Medicare Provider #090004

Memorial Health Care System, 2525 de Sales Avenue, Chattanooga, TN 37404-1102, Medicare Provider #440091

Mercy Medical Center, 1343 Fountain Boulevard, P.O. Box 1380, Springfield, OH 45501-1380, Medicare Provider #360086

Munson Medical Center, 1105 Sixth Street, Traverse City, MI 49684-2386, Medicare Provider #230097

Salem Hospital, 665 Winter Street SE, Post Office Box 14001, Salem, OR 97309-5014, Medicare Provider #380051

University of Mississippi Medical Center, 2500 North State Street, Jackson, MS 39216, Medicare Provider #250001

[FR Doc. 06-2807 Filed 3-23-06; 8:45 am]

BILLING CODE 4120-01-P